DEPARTMENT OF LABOR

Employment and Training Administration

[TA-W-60,323]

Cookson Electronics Assembly Material Group, a Division of Fry Metals Inc., Doing Business as Alpha Metals, Jersey City, NJ; Notice of Termination of Investigation

Pursuant to Section 221 of the Trade Act of 1974, an investigation was initiated on October 30, 2006 in response to a petition filed by the Teamsters Local Union, Local 945 on behalf of workers at Cookson Electronics, Assembly Material Group, A Division of Frys Metals, Inc., Doing Business As Alpha Metals, Jersey City, New Jersey.

The petitioner has requested that the petition be withdrawn. Consequently, the investigation has been terminated.

Signed in Washington, DC, this 13th day of November 2006.
Elliott S. Kushner,
Certifying Officer, Division of Trade Adjustment Assistance.

[FR Doc. E6-19719 Filed 11-21-06; 8:45 am]

BILLING CODE 4510-30-P